DEPARTMENT OF JUSTICE

Office of Justice Programs

[[OMB Number 1121-0140]

Agency Information Collection Activities: Proposed Collection; Comments Requested: OJP Standard Assurances Form

ACTION: 30-day notice.

The Department of Justice (DOJ), Office of Justice Programs (OJP), will be submitting the following information collection request to the Office of Management and Budget (OMB) for review and approval in accordance with the Paperwork Reduction Act of 1995. The proposed information collection is published to obtain comments from the public and affected agencies. Comments are encouraged and will be accepted for thirty days (30) until February 8, 2013. This process is conducted in accordance with 5 CFR 1320.10.

If you have additional comments on the estimated public burden or associated response time, suggestions, or need a copy of the proposed information collection instrument with instructions or additional information, please contact: Kristopher Brambila, Attorney Advisor, U.S. Department of Justice, Office of Justice Programs, Office of the General Counsel, 810 7th Street NW., Washington, DC 20531.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information:

(1) Type of information collection: Extension, without change of a currently approved collection.

(2) The title of the form/collection: OJP Standard Assurances.

(3) Agency Form Number: None. Component Sponsoring Collection: Office of Justice Programs, Department of Justice.

(4) Affected public who will be asked or required to respond, as well as a brief abstract. Primary: Applicants for grants funded by the Office of Justice Programs. Other: None. The purpose of the Standard Assurances form is to obtain the assurance/certification of each applicant for OJP funding that it will comply with the various crosscutting regulatory and statutory requirements that apply to OJP grantees, and to set out in one easy-to-reference document those requirements that most frequently impact OJP grantees.

(5) An estimate of the total number of respondents and the amount of time estimated for an average respondent to respond/reply: Total of 8,250 respondents estimated, at 20 minutes each.

(6) An estimate of the total public burden (in hours) associated with the collection: The estimated total public burden associated with this information is 3,500.

If additional information is required contact: Jerri Murray, Department Clearance Officer, United States Department of Justice, Justice Management Division, Policy and Planning Staff, Two Constitution Square, 145 N Street NE., Room 3W-1407B, Washington, DC 20530.

December 5, 2012.
Jerri Murray,
Department Clearance Officer for PRA, U.S. Department of Justice.

[FR Doc. 2012-29735 Filed 12-7-12; 8:45 am]

BILLING CODE 4410-18-P